SURFACE TRANSPORTATION BOARD

49 CFR Part 1250

[Docket No. EP 724 (Sub-No. 4)]

United States Rail Service Issues—Performance Data Reporting

Correction

In rule document 2017-02492, appearing on pages 9529-9529, in the issue of Tuesday, February 7, 2017, make the following correction:

On page 9529, in the third column, the signature block should read as follows:

Decided: January 27, 2017.
By the Board, Acting Chairman Begeman, Vice Chairman Miller, and Commissioner Elliott.
Brendetta S. Jones,
Clearance Clerk.

[FR Doc. C1-2017-02492 Filed 2-23-17; 8:45 am]

BILLING CODE 1301-00-D